DEPARTMENT OF THE INTERIOR

Bureau of Land Management

[CACA 048880, LLCAD06000, L51010000, ER0000, LVRWB09B2510]

Notice of Intent To Prepare an Environmental Impact Statement/Staff Assessment for the NextEra Ford Dry Lake Solar Power Plant, Riverside County, CA and Possible Land Use Plan Amendment

AGENCY: Bureau of Land Management, Interior.

ACTION: Notice of intent.

SUMMARY: In compliance with the National Environmental Policy Act of 1969 (NEPA), as amended, and the Federal Land Policy and Management Act of 1976, as amended, the Bureau of Land Management (BLM) Palm Springs-South Coast Field Office, together with the California Energy Commission (CEC), intend to prepare an Environmental Impact Statement (EIS) and Staff Assessment (SA), which may also include an amendment to the California Desert Conservation Area (CDCA) Plan (1980, as amended), and by this notice are announcing the beginning of the scoping process to solicit public comments and identify issues.

DATES: This notice initiates the public scoping process for the EIS/SA and possible plan amendment. Comments on issues may be submitted in writing until December 23, 2009. The date(s) and location(s) of any scoping meetings, information hearings, and site visits will be announced at least 15 days in advance through local media, newspapers and the BLM Web site at: http://www.blm.gov/ca/st/en/fo/palmsprings.html and the CEC's Web site at: http://energy.ca.gov/sitingcases/genesis_solar/index.html. In order to be considered in the Draft EIS/SA, all comments must be received prior to the close of the scoping period or 15 days after the last public meeting, whichever is later. We will provide additional opportunities for public participation upon publication of the Draft EIS/SA.

ADDRESSES: You may submit comments on issues and planning criteria related to the NextEra Ford Dry Lake Solar Power Plant Draft EIS/SA by any of the following methods:

• Web site: http://www.blm.gov/ca/st/en/fo/palmsprings.html or http://energy.ca.gov/sitingcases/genesis_solar/index.html.

• E-mail: CAPSSolarNextEraFPL@blm.gov or mmonasmi@energy.state.ca.us.

• Fax: (760) 251-4899.

• Mail or hand delivery: Mike Monasmith, Project Manager Siting, Transmission and Environmental Protection Division, CEC, 1516 Ninth Street, MS-15, Sacramento, California 95814 or Allison Shaffer, Project Manager, Palm Springs-South Coast Field Office, BLM, 1201 Bird Center Drive, Palm Springs, California 92262.

FOR FURTHER INFORMATION CONTACT: For further information or to have your name added to our mailing list, contact Allison Shaffer, BLM Project Manager, telephone (760) 833-7100; address 1201 Bird Center Drive, Palm Springs, CA 92262; e-mail CAPSSolarNextEraFPL@blm.gov or Mike Monasmith, CEC Project Manager, telephone (916) 653-8236; address 1516 9th Street, MS-15, Sacramento, CA 95814; e-mail mmonasmi@energy.state.ca.us.

SUPPLEMENTARY INFORMATION: The applicant, NextEra, LLC has requested a right-of-way authorization to develop an 1,800-acre, 250-megawatt (MW) solar generation facility, including a substation, administration facilities, operations and maintenance facilities, evaporation ponds, surface storm water control facilities, and temporary construction lay-down areas.

The project is located approximately 25 miles west of the city of Blythe, California, on BLM-managed lands. The project area is south of the Palen/McCoy Wilderness Area and north of Ford Dry Lake and Interstate 10. The project consists of two independent solar electric generating facilities with a combined electrical output of 250 MW. Electrical power would be produced using steam turbine generators fed from solar steam generators. The solar steam generators receive heated transfer fluid from arrays of parabolic mirrors that collect energy from the sun. The project would use a wet cooling tower for power plant cooling. Water for cooling tower makeup, process water makeup, and other industrial uses such as mirror washing would be supplied from on-site groundwater wells. Project cooling waste water would be piped to lined, on-site evaporation ponds. If approved, project construction would begin in late 2010.

The purpose of the public scoping process is to determine relevant issues that will influence the scope of the environmental analysis, including alternatives, and guide the process for developing the EIS/SA. The BLM has identified the following preliminary issues: special area designations, air quality, biological resources, recreation, cultural resources, special status species, water resources, geological resources, land use, noise, paleontological resources, public health, socioeconomics, soils, traffic and transportation, visual resources, and other issues.

Authorization of this proposal may require amendment of the CDCA Plan. By this notice, the BLM is complying with 43 CFR 1610.2(c) to notify the public of potential amendments to land use plans, predicated on the findings of the EIS. If a land use plan amendment is necessary, the BLM will integrate the land use planning process with the NEPA process for this project. The BLM will use the NEPA commenting process to satisfy the public involvement process for Section 106 of the National Historic Preservation Act (16 U.S.C. 470f) as provided for in 36 CFR 800.2(d)(3). Native American Tribal consultations will be conducted in accordance with BLM policy, and Tribal concerns will be given due consideration, including impacts on Indian trust assets. Federal, State, and local agencies, along with tribes and other stakeholders that may be interested or affected by the BLM's decision on this project, are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Tom Pogacnik,
Deputy State Director, Natural Resources, BLM California State Office.

[FR Doc. E9-27982 Filed 11-20-09; 8:45 am]

BILLING CODE 4310-40-P